DEPARTMENT OF JUSTICE

Office of Justice Programs

Agency Information Collection Activities: Proposed Collection; Comments Requested

ACTION: 60-Day Emergency Notice of Information Collection Under Review: New Collection; Project Safe Neighborhoods Semi-Annual Researcher Reporting Form.

The Department of Justice; Office of Justice Programs, has submitted the following information request to the Office of Management and Budget (OMB) for review and clearance in accordance with emergency review procedures of the Paperwork Reduction Act of 1995. OMB approval has been requested by April 18, 2003. The proposed information collection is published to obtain comments from the public and affected agencies. If granted, the emergency approval is only valid for 180 days. Comments should be directed to OMB, Office of Information and Regulation Affairs, Attention: Department of Justice Desk Office (202) 395-6466, Washington, DC 20503.

During the first 60 days of this same review period, a regular review of this information collection is also being undertaken. All comments and suggestions, or questions regarding additional information, to include obtaining a copy of the proposed information collection instrument with instructions, should be directed to Robyn Thiemann, Counsel, Domestic Security Section, Department of Justice, 601 D Street NW., Patrick Henry Building, Suite 6500, Washington, DC 20530, or facsimile (202) 305-4901.

Request written comments and suggestions from the public and affected agencies concerning the proposed collection of information. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility and clarity of the information to be collected; and

(4) Minimize the burden of the collection of information on those who are to respond, including through the use of appropriate automated, electronic, mechanical, or other technological collection techniques or other forms of information technology, e.g., permitting electronic submission of responses.

Overview of This Information

(1) Type of information collection: New Collection.

(2) The title of the form/collection: Project Safe Neighborhoods Semi-Annual Researcher Reporting Form.

(3) The agency form number, if any, and the applicable component of the department sponsoring the collection: Form number: none. Office of Justice Programs, Department of Justice.

(4) Affected public who will be asked or required to respond, as well as a brief abstract: Primary: Individuals or Households. Other: Business or other for-profit; not-for-profit institutions; Federal Governments; and state, local, or tribal government. The data, which will be submitted via the Semi-Annual Researcher Reporting Form in a timely fashion by the research for each of the 94 judicial districts, is essential to understanding gun violence at a national level. By collecting both outcome and intervention measures, the Department can identify programs that demonstrate success in reducing targeted gun crime. This information is essential to evaluating the program and providing feedback at the national level that can inform management decisions. Additionally, this data will assist the Department in discharging its obligations under the Government Performance and Results Act (GPRA).

(5) An estimate of the number of respondents and the amount of time estimated for an average respondent to respond/reply: It is estimated that 93 respondents will complete the form in approximately one hour twice a year.

(6) An estimate of the total public burden (in hours) associated with the collection: The estimated total public burden associated with this application is 186 hours.

If additional information is required, please contact Brenda Dyer, Department Deputy Clearance Officer, Information Management and Security Staff, Justice Management Division, United States Department of Justice, 601 D Street NW., Patrick Henry Building, Suite 1600, NW., Washington, DC 20530.

Dated: April 3, 2003.
Brenda Dyer,
Department Deputy Clearance Officer, United States Department of Justice.

[FR Doc. 03-8607 Filed 4-8-03; 8:45 am]

BILLING CODE 4410-18-M